DEPARTMENT OF ENERGY

Federal Energy Regulatory Commission

Combined Notice of Filings #2

Take notice that the Commission received the following electric rate filings:

Docket Numbers: ER10-468-005.

Applicants: Google Energy LLC.

Description: Triennial Market Power Analysis for Central Region of Google Energy LLC.

Filed Date: 6/28/24.

Accession Number: 20240628-5382.

Comment Date: 5 p.m. ET 8/27/24.

Docket Numbers: ER10-2136-023.

Applicants: Invenergy Cannon Falls LLC.

Description: Triennial Market Power Analysis for Central Region of Invenergy Cannon Falls LLC.

Filed Date: 6/28/24.

Accession Number: 20240628-5385.

Comment Date: 5 p.m. ET 8/27/24.

Docket Numbers: ER10-2615-017; ER11-2335-021.

Applicants: Plum Point Energy Associates, LLC, Plum Point Services Company, LLC.

Description: Triennial Market Power Analysis for Central Region of Plum Point Energy Associates, LLC, et al.

Filed Date: 6/28/24.

Accession Number: 20240628-5383.

Comment Date: 5 p.m. ET 8/27/24.

Docket Numbers: ER13-1419-001; ER13-122-005; ER13-123-002.

Applicants: ExxonMobil LaBarge Shute Creek Treating Facility, ExxonMobil Beaumont Complex, ExxonMobil Baton Rouge Complex.

Description: Triennial Market Power Analysis and Change in Status for Central Region of ExxonMobil Baton Rouge Complex, et al.

Filed Date: 6/28/24.

Accession Number: 20240628-5381.

Comment Date: 5 p.m. ET 8/27/24.

Docket Numbers: ER14-2144-010; ER10-2178-044; ER10-2192-044; ER11-2009-027; ER11-2011-027; ER11-3989-023; ER12-2201-018; ER12-2311-018; ER13-1536-028.

Applicants: Constellation Energy Generation, LLC, Beebe Renewable Energy, LLC, Harvest II Windfarm, LLC, Michigan Wind 2, LLC, Harvest Windfarm, LLC, Michigan Wind 1, LLC, Constellation Energy Commodities Group Maine, LLC, Constellation NewEnergy, Inc., Beebe 1B Renewable Energy, LLC.

Description: Triennial Market Power Analysis for Central Region of Beebe 1B Renewable Energy, LLC, et al.

Filed Date: 6/28/24.

Accession Number: 20240628-5377.

Comment Date: 5 p.m. ET 8/27/24.

Docket Numbers: ER16-1720-028; ER21-2137-012.

Applicants: IR Energy Management LLC, Invenergy Energy Management LLC.

Description: Triennial Market Power Analysis for Central Region of Invenergy Energy Management LLC, et al.

Filed Date: 6/28/24.

Accession Number: 20240628-5389.

Comment Date: 5 p.m. ET 8/27/24.

Docket Numbers: ER16-2035-006.

Applicants: Black Oak Wind, LLC.

Description: Triennial Market Power Analysis for Central Region of Black Oak Wind, LLC.

Filed Date: 6/28/24.

Accession Number: 20240628-5388.

Comment Date: 5 p.m. ET 8/27/24.

Docket Numbers: ER17-2088-006.

Applicants: Apple Blossom Wind, LLC.

Description: Triennial Market Power Analysis for Central Region of Apple Blossom Wind, LLC.

Filed Date: 6/28/24.

Accession Number: 20240628-5387.

Comment Date: 5 p.m. ET 8/27/24.

Docket Numbers: ER17-2245-004.

Applicants: Moffett Solar 1, LLC.

Description: Notice of Change in Status of Moffett Solar 1, LLC.

Filed Date: 6/28/24.

Accession Number: 20240628-5378.

Comment Date: 5 p.m. ET 7/19/24.

Docket Numbers: ER20-113-005; ER20-67-005; ER20-116-005.

Applicants: Evergy Metro, Inc., Evergy Kansas Central, Inc., Evergy Missouri West, Inc.

Description: Triennial Market Power Analysis for Southwest Power Pool Inc. Region of Evergy Missouri West, Inc., et al.

Filed Date: 6/28/24.

Accession Number: 20240628-5375.

Comment Date: 5 p.m. ET 8/27/24.

Docket Numbers: ER21-2082-002.

Applicants: Citizens S-Line Transmission LLC.

Description: Compliance filing: Compliance Filing and Request to Amend Formula Rate Protocols to be effective 12/31/9998.

Filed Date: 7/1/24.

Accession Number: 20240701-5300.

Comment Date: 5 p.m. ET 7/22/24.

Docket Numbers: ER22-2091-006.

Applicants: Calhoun Solar Energy LLC.

Description: Triennial Market Power Analysis for Central Region of Calhoun Solar Energy LLC.

Filed Date: 6/28/24.

Accession Number: 20240628-5386.

Comment Date: 5 p.m. ET 8/27/24.

Docket Numbers: ER22-2556-002; ER21-2379-001.

Applicants: Rainbow Energy Center, LLC, Rainbow Energy Marketing Corporation.

Description: Triennial Market Power Analysis for Central Region of Rainbow Energy Marketing Corporation, et al.

Filed Date: 7/1/24.

Accession Number: 20240701-5155.

Comment Date: 5 p.m. ET 8/30/24.

Docket Numbers: ER22-2703-004.

Applicants: Pattern Energy Management Services LLC.

Description: Triennial Market Power Analysis for Central Region of Pattern Energy Management Services LLC.

Filed Date: 6/28/24.

Accession Number: 20240628-5384.

Comment Date: 5 p.m. ET 8/27/24.

Docket Numbers: ER23-2874-003.

Applicants: NorthWestern Energy Public Service Corporation.

Description: Triennial Market Power Analysis for Southwest Power Pool Inc. Region of NorthWestern Energy Public Service Corporation.

Filed Date: 6/28/24.

Accession Number: 20240628-5379.

Comment Date: 5 p.m. ET 8/27/24.

Docket Numbers: ER24-2433-000.

Applicants: Lockhart Solar PV II, LLC.

Description: Baseline eTariff Filing: Facilities Use Agreements to be effective 8/12/2024.

Filed Date: 7/1/24.

Accession Number: 20240701-5128.

Comment Date: 5 p.m. ET 7/22/24.

Docket Numbers: ER24-2434-000.

Applicants: Lockhart CL ESS I, LLC.

Description: Baseline eTariff Filing: Certificate of Concurrence for Switchyard Facilities Use Agreement to be effective 8/12/2024.

Filed Date: 7/1/24.

Accession Number: 20240701-5170.

Comment Date: 5 p.m. ET 7/22/24.

Docket Numbers: ER24-2435-000.

Applicants: Lockhart CL ESS II, LLC.

Description: Baseline eTariff Filing: Certificate of Concurrence for Switchyard Facilities Use Agreement to be effective 8/12/2024.

Filed Date: 7/1/24.

Accession Number: 20240701-5174.

Comment Date: 5 p.m. ET 7/22/24.

Docket Numbers: ER24-2436-000.

Applicants: Southwest Power Pool, Inc.

Description: § 205(d) Rate Filing: 3125R16 Basin Electric Power Cooperative NITSA and NOA to be effective 6/1/2024.

Filed Date: 7/1/24.

Accession Number: 20240701-5204.

Comment Date: 5 p.m. ET 7/22/24.

Docket Numbers: ER24-2437-000.

Applicants: Midcontinent Independent System Operator, Inc.

Description: § 205(d) Rate Filing: 2024-07-01_SA 4304 ITC Midwest-IPL GIA (J1359) to be effective 6/20/2024.

Filed Date: 7/1/24.

Accession Number: 20240701-5225.

Comment Date: 5 p.m. ET 7/22/24.

Docket Numbers: ER24-2438-000.

Applicants: Lockhart Transmission Holdings, LLC.

Description: § 205(d) Rate Filing: Facilities Use Agreements to be effective 8/12/2024.

Filed Date: 7/1/24.

Accession Number: 20240701-5230.

Comment Date: 5 p.m. ET 7/22/24.

Docket Numbers: ER24-2439-000.

Applicants: Avista Corporation.

Description: § 205(d) Rate Filing: Avista RS No. T1229, NorthWestern Energy Dynamic Transfer BA Operating Agreement to be effective 7/2/2024.

Filed Date: 7/1/24.

Accession Number: 20240701-5250.

Comment Date: 5 p.m. ET 7/22/24.

Docket Numbers: ER24-2440-000.

Applicants: Puget Sound Energy, Inc.

Description: § 205(d) Rate Filing: NorthernGrid Funding Agreement and Certificate of Concurrence to be effective 1/1/2024.

Filed Date: 7/1/24.

Accession Number: 20240701-5259.

Comment Date: 5 p.m. ET 7/22/24.

Docket Numbers: ER24-2441-000.

Applicants: Lockhart CL ESS I, LLC.

Description: § 205(d) Rate Filing: Certificate of Concurrence for Facilities Use Agreement to be effective 8/12/2024.

Filed Date: 7/1/24.

Accession Number: 20240701-5283.

Comment Date: 5 p.m. ET 7/22/24.

Docket Numbers: ER24-2442-000.

Applicants: Lockhart Solar PV, LLC.

Description: § 205(d) Rate Filing: Certificate of Concurrence for Facilities Use Agreement to be effective 8/12/2024.

Filed Date: 7/1/24.

Accession Number: 20240701-5288.

Comment Date: 5 p.m. ET 7/22/24.

Docket Numbers: ER24-2443-000.

Applicants: Lockhart CL ESS II, LLC.

Description: § 205(d) Rate Filing: Certificate of Concurrence for Facilities Use Agreement to be effective 8/12/2024.

Filed Date: 7/1/24.

Accession Number: 20240701-5291.

Comment Date: 5 p.m. ET 7/22/24.

Docket Numbers: ER24-2444-000.

Applicants: California Independent System Operator Corporation.

Description: Compliance filing: 2024-07-01 Petition for Limited Tariff Waiver of CAISO Corp to be effective N/A.

Filed Date: 7/1/24.

Accession Number: 20240701-5293.

Comment Date: 5 p.m. ET 7/22/24.

Docket Numbers: ER24-2445-000.

Applicants: Lockhart Solar PV II, LLC.

Description: § 205(d) Rate Filing: Certificate of Concurrence for Facilities Use Agreement to be effective 8/12/2024.

Filed Date: 7/1/24.

Accession Number: 20240701-5295.

Comment Date: 5 p.m. ET 7/22/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 1, 2024.
Debbie-Anne A. Reese,
Acting Secretary.

[FR Doc. 2024-14951 Filed 7-8-24; 8:45 am]

BILLING CODE 6717-01-P